DEPARTMENT OF HOMELAND SECURITY

Coast Guard

33 CFR Part 117

[Docket No. USCG-2016-0963]

RIN 1625-AA09

Drawbridge Operation Regulation; Tchefuncta River

AGENCY: Coast Guard, DHS.

ACTION: Final rule.

SUMMARY: The Coast Guard is changing the operating schedule that governs the State Route 22 (SR 22) drawbridge across the Tchefuncta River mile 2.5, Madisonville, St. Tammany Parish, Louisiana. This action is necessary to relieve vehicular traffic congestion along SR 22 near Madisonville, LA during peak traffic periods on weekdays.

DATES: This rule is effective April 7, 2022.

ADDRESSES: To view documents mentioned in this preamble as being available in the docket, go to https://www.regulations.gov. Type USCG-2016-0963 in the “SEARCH” box and click “SEARCH.” In the Document Type column, select “Supporting & Related Material.”

FOR FURTHER INFORMATION CONTACT: If you have questions on this rule, call or email call or email Mr. Doug Blakemore, Eighth Coast Guard District Bridge Administrator; telephone (504) 671-2128, email Douglas.A.Blakemore@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

SR State Road

U.S.C. United States Code

II. Background Information and Regulatory History

The Coast Guard has published numerous rulemaking documents in the Federal Register on this bridge: A temporary deviation to the regulations November 4, 2016 (81 FR 76866); NPRM November 4, 2016 (81 FR 76889); a Supplemental NPRM June 14, 2018 (83 FR 27730); and a final rule October 25, 2018 (85 FR 53810). Each rulemaking addressed changing the operating schedule to the bridge to relieve vehicle congestion along SR 22 in Madisonville, LA.

On April 23, 2021 the Town of Madisonville, LA requested that the Coast Guard revisit changing the operating schedule and close the drawbridge to vessel traffic during morning vehicle peak periods and that the bridge only open to vessels during the day on the hour. The Coast Guard published a NPRM August 31, 2021 (86 FR 48923) to solicit public comments on this proposed rule change.

The Coast Guard determined that the Town of Madisonville had provided sufficient information to relieve vehicle congestion by closing the bridge to vessel traffic from 6 a.m. to 8 a.m. and 4 p.m. to 6 p.m. and opening the bridge from 8 a.m. to 4 p.m. on the hour vice every half hour. This change allows vehicles to travel along SR 22 unimpeded by bridge openings for 2 two periods during the weekday morning and afternoon commutes. It also decreases the number of times that the bridge opens during the day by opening on the hour for vessels to pass 7 days a week. During the comment period that ended on November 1, 2021, we received 18 comments.

III. Legal Authority and Need for Rule

The Coast Guard is issuing this rule under authority 33 U.S.C. 499. The Eighth Coast Guard District Commander has determined that this change to the operating schedule of the Madisonville (SR 22) swing span drawbridge across the Tchefuncta River mile 2.5, Madisonville, St. Tammany Parish, Louisiana allows it to remain closed to marine traffic for 2 two hour periods and to open on the hour during days is necessary and reasonable. The purpose of this rule is to alleviate vehicle congestion on SR 22 and meet the reasonable needs of vessels to use the Tchefuncta River.

IV. Discussion of Comments, Changes and the Final Rule

As mentioned above we received 18 comments on the NPRM published August 1, 2021. Fifteen comments were in favor of the rule change. One comment was against the rule change and 2 comments addressed other issues not related to the NPRM. The commenter against the rule stated that the rule would have little impact to vehicle traffic because there are few bridge openings during weekdays, minimal openings in the afternoon peak vehicle traffic hours and there are minimal bridge openings on the weekends.

Vehicle congestion along SR 22 is well documented by other public comments, meetings, and data and information gathered during this rule change. Vehicle congestion is particularly significant during morning and evening commuting and school hours. In promulgating drawbridge rules the Coast Guard balances the needs of land transportation and vessel traffic. The bridge opens on average 8 times per day Monday through Sunday. The rule will provide a positive impact to vehicle traffic by reducing the amount of time that the bridge is required to open and will provide vessels with the reasonable ability to use the waterway.

This final rule changes the Madisonville (SR 22) swing span bridge operating schedule and allows the bridge to open on signal on the hour from 6 a.m. to 6 p.m. except that on Monday through Friday the bridge will not open from 6 a.m. to 8 a.m. and from 4 p.m. to 6 p.m. The bridge opens on signal from 6 p.m. to 6 a.m. each day. This allows vehicles to travel along SR 22 near Madisonville, LA unimpeded by bridge openings at the above times. There are no other changes to the operating schedule. The regulatory text appears at the end of this document.

IV. Regulatory Analyses

We developed this rule after considering numerous statutes and Executive Orders related to rulemaking. Below we summarize our analyses based on a number of these statutes and Executive Orders, and we discuss First Amendment rights of protesters.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, it has not been reviewed by the Office of Management and Budget (OMB).

This regulatory action determination is based on the ability that vessels can still transit the bridge given advanced notice.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

While some owners or operators of vessels intending to transit the bridge may be small entities, for the reasons stated in section IV.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 0170.1.

2. Revise § 117.500 to read as follows:

§ 117.500 Tchefuncta River.

The draw of the SR 22 Bridge, mile 2.5, at Madisonville, LA shall operate according to the following schedule. On Monday through Friday the draw will operate as follows: From 6 p.m. to 5:59 a.m. the draw will open on signal; from 6 a.m. to 7:59 a.m. the draw need not open; from 8 a.m. to 4 p.m. the draw will open on signal on the hour; from 4:01 p.m. to 6 p.m. the draw need not open. On Saturday and Sunday the draw will operate as follows: From 6 p.m. to 6 a.m. the draw will open on signal; from 6 a.m. to 6 p.m. the draw will open on signal on the hour.

Dated: February 3, 2022.
R.V. Timme,
Rear Admiral, U.S. Coast Guard, Commander, Eighth Coast Guard District.

[FR Doc. 2022-04860 Filed 3-7-22; 8:45 am]

BILLING CODE 9110-04-P